DEPARTMENT OF ENERGY

Federal Energy Regulatory Commission

[Docket Nos. CP05-360-000, CP05-357-000, CP05-358-000, and CP05-359-000]

Creole Trail LNG, L.P. and Cheniere Creole Trail Pipeline; Notice of Availability of the Draft Environmental Impact Statement for the Creole Trail LNG Terminal and Pipeline Project

December 16, 2005.

The staff of the Federal Energy Regulatory Commission (FERC or Commission) has prepared this draft Environmental Impact Statement (EIS) for the construction and operation of the liquefied natural gas (LNG) import terminal and natural gas pipeline facilities, referred to as the Creole Trail LNG Terminal and Pipeline Project (Creole Trail Project) as proposed by Creole Trail LNG, L.P. and Cheniere Creole Trail Pipeline (collectively referred to as Creole Trail) in the above-referenced dockets.

The draft EIS was prepared to satisfy the requirements of the National Environmental Policy Act (NEPA). The staff concludes that approval of the Creole Trail Project, with appropriate mitigating measures as recommended, would have limited adverse environmental impact. The draft EIS evaluates alternatives to the proposal, including system alternatives, alternative sites for the LNG import terminal, and pipeline alternatives. The draft EIS also contains our Essential Fish Habitat Analysis.

The purpose of the Creole Trail Project is to provide the facilities necessary to meet growing demand for natural gas in the United States by providing access to a reliable and stable supply of natural gas from diverse areas of the world and to allow natural gas delivery to the Gulf of Mexico coast, midwest, northeast, and Atlantic markets using existing interstate and intrastate natural gas pipeline systems.

The draft EIS addresses the potential environmental effects of the construction and operation of the following facilities in Cameron, Calcasieu, Beauregard, Allen, Jefferson Davis, and Acadia Parishes, Louisiana:

• A ship unloading slip with two protected berths, each equipped with three liquid unloading arms and one vapor return arm;

• Four LNG storage tanks, each with a usable volume of 1,006,000 barrels (160,000 cubic meters (m³));

• Twenty-one high pressure LNG sendout pumps, each with a capacity of 1,686 gallons per minute (384 m³ per hour);

• Twenty-one high pressure submerged combustion vaporizers, each with a capacity of 183 million cubic feet per day;

• Three boil-off gas compressors;

• Ancillary utilities, buildings, and service facilities at the LNG terminal;

• 116.8 miles of dual 42-inch-diameter natural gas pipeline;

• 6.8 miles of 20-inch-diameter lateral line natural gas pipeline;

• 18 meter and regulation facilities; and

• Associated pipeline facilities including pig launcher and receiver facilities, two mainline valves (MLV) on the 20-inch-diameter pipeline, and eight MLVs along each of the individual pipelines in the dual pipeline system.

Comment Procedures and Public Meetings

Any person wishing to comment on the draft EIS may do so. To expedite the FERC's receipt and consideration of your comments, electronic submission of comments is strongly encouraged. See Title 18 CFR 385.2001(a)(1)(iii) and the instructions on the FERC's Internet Web site (http://www.ferc.gov) under the eFiling link and the link to the User's Guide. Before you can submit comments, you will need to create a free account by clicking on “Sign-up” under “New User.” You will be asked to select the type of submission you are making. This type of submission is considered a “Comment on Filing.” Comments submitted electronically must be submitted by February 21, 2006.

If you wish to mail comments on the draft EIS, please mail your comments so that they will be received in Washington, DC on or before February 21, 2006 and carefully follow these instructions:

• Send an original and two copies of your comments to: Magalie R. Salas, Secretary, Federal Energy Regulatory Commission, 888 First Street, NE., Room 1A, Washington, DC 20426.

• Reference Docket No. CP05-357-000 et al. on the original and both copies;

• Label one copy of your comments for the attention of Gas Branch 2, PJ-11.2; and

• Mail your comments so that they will be received in Washington, DC on or before February 21, 2006.

After these comments have been reviewed, any significant new issues are investigated, and modifications are made to the draft EIS, a final EIS will be published and distributed by the staff. The final EIS will contain the staff's responses to timely comments received on the draft EIS.

Comments will be considered by the Commission but will not serve to make the commentor a party to the proceeding. Any person seeking to become a party to the proceeding must file a motion to intervene pursuant to Rule 214 of the Commission's Rules of Practice and Procedures (18 CFR 385.214). Anyone may intervene in this proceeding based on this draft EIS. You must file your request to intervene as specified above.¹ You do not need intervenor status to have your comments considered.

¹ Interventions may also be filed electronically via the Internet in lieu of paper. See the previous discussion on filing comments electronically.

Recent hurricane activities have affected infrastructure in the project area. In addition, the Commission has received relatively few comments on the Creole Trail Project to date, and comments that were received have been addressed in this draft EIS. For these reasons, the staff does not plan to hold public comment meetings on the draft EIS for the Creole Trail Project. If it is determined at a later date that public meetings are necessary, a separate notice will be issued and posted on the Commission's calendar located at http://www.ferc.gov/EventCalendar/EventsList.aspx along with other related information.

The draft EIS has been placed in the public files of the FERC and is available for distribution and public inspection at: Federal Energy Regulatory Commission, Public Reference and Files Maintenance Branch, 888 First Street NE., Room 2A, Washington, DC 20426. (202) 502-8371.

A limited number of copies of the draft EIS are available from the Public Reference and Files Maintenance Branch identified above. In addition, copies of the draft EIS have been mailed to Federal, state, and local agencies; elected officials; public interest groups; individuals and affected landowners who requested a copy of the draft EIS; libraries; newspapers; and parties to these proceedings.

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance, please contact FERC Online Support at: FERCOnlineSupport@ferc.gov or toll free at 1-866-208-3676, or for TTY at (202) 502-8659. The eLibrary link on the FERC Internet website also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries, and direct links to the documents. Go to the eSubscription link on the FERC Internet Web site.

Magalie R. Salas,
Secretary.

[FR Doc. E5-7915 Filed 12-27-05; 8:45 am]

BILLING CODE 6717-01-P